DEPARTMENT OF VETERANS AFFAIRS

Veterans' Advisory Committee on Rehabilitation (VACOR); Notice of Meeting

The Department of Veterans Affairs (VA) gives notice under Public Law 92-463 that a meeting of the Veterans' Advisory Committee on Rehabilitation (VACOR), authorized by Public Law 96-466, Subsection 1521, will be held on February 19 through 21, 2002. The meeting will be held at VA Central Office, 810 Vermont Avenue NW, Washington, DC 20006.

The meeting schedule is as follows:

Date | Room# | Time
February 19 | 630 | 9 am to 4 pm.
February 20 | 530 | 9 am to 4 pm.
February 21 | 530 | 9 am to 12 pm.

The purpose of the meeting is to review the quality of the services that the VA provides to disabled veterans who participate in VA sponsored programs of rehabilitation. In addition, VACOR will focus on a review of past activities and the development of future initiatives.

On February 19, the meeting will begin with opening remarks and an overview by Mr. Richard K. Pimentel, VACOR Committee Chairman, During the morning session, the Committee will receive a briefing on current initiatives, accomplishments, and challenges in the Vocational Rehabilitation and Employment Service and a report on research activities of the VA National Rehabilitation Special Events Management Group. The afternoon session will be devoted to reporting on the progress VA has made in compliance with Executive Order 13163 and a presentation will be given on the proposed Veterans Health Administration pilot “An Individualized Approach to Spinal Cord Injury.”

On the morning of February 20, the Committee will hear a presentation on Corporate WINRS, Vocational Rehabilitation's recently deployed national case management system. The afternoon session will include a briefing on the strategies VA is taking to address employment opportunities for disabled veterans in current times of shifts in the economy and fluctuating labor markets. In addition, the Committee will hear an overview of recent innovations in the Rehabilitation Research and Development Service.

On February 21, the meeting will include a review of past unfinished business, recommendations for program changes, and a discussion of future meeting sites and future agenda topics.

The meeting is open to the public. Members of the general public may join in discussions, subject to the instructions of the Chair. If additional information is needed, please contact Sharon L. Ford, Program Analyst, Department of Veterans Affairs, Veterans Benefits Administration (28), 810 Vermont Avenue NW, Washington, DC 20420, phone (202) 273-7430.

By direction of the Secretary.
Dated: February 7, 2002.
Nora E. Egan,
Committee Management Officer.

[FR Doc. 02-3457 Filed 2-12-02; 8:45 am]

BILLING CODE 8320-01-M